DEPARTMENT OF TRANSPORTATION

Federal Motor Carrier Safety Administration

[Docket No. FMCSA-2024-0027]

Qualification of Drivers; Exemption Applications; Epilepsy and Seizure Disorders; Correction

AGENCY: Federal Motor Carrier Safety Administration (FMCSA), Department of Transportation (DOT).

ACTION: Notice of final disposition; correction.

SUMMARY: FMCSA corrects its November 19, 2024, notice of final disposition granting exemptions for 11 individuals from the Agency's requirement interstate commercial motor vehicle (CMV) drivers have “no established medical history or clinical diagnosis of epilepsy or any other condition which is likely to cause loss of consciousness or any loss of ability to control a CMV.” The expiration date for the exemptions was incorrectly published as November 13, 2024. The correct expiration date is November 13, 2026.

DATES: This correction is effective December 6, 2024.

FOR FURTHER INFORMATION CONTACT: Ms. Christine A. Hydock, Chief, Medical Programs Division, FMCSA, DOT, 1200 New Jersey Avenue SE, Room W64-224, Washington, DC 20590-0001, (202) 366-4001, fmcsamedical@dot.gov. Office hours are from 8:30 a.m. to 5 p.m. ET Monday through Friday, except Federal holidays. If you have questions regarding viewing materials in the docket, contact Dockets Operations, (202) 366-9826.

SUPPLEMENTARY INFORMATION: On November 19, 2024 (89 FR 91479), FMCSA published a notice of final disposition in which the Agency announced its decision to exempt 11 individuals from the requirement that interstate CMV drivers have “no established medical history or clinical diagnosis of epilepsy or any other condition which is likely to cause loss of consciousness or any loss of ability to control a CMV.” The exemptions enable these individuals who have had one or more seizures and are taking anti-seizure medication to operate CMVs in interstate commerce, provided certain conditions are satisfied. The notice incorrectly indicated that the expiration date of the exemptions is November 13, 2024. Through this notice, FMCSA corrects the expiration date.

In FR Doc. 2024-26972 appearing on page 91479 in the Federal Register of November 19, 2024, the following correction is made:

1. On page 91479, in the third column, under the dates section, “The exemptions expire on November 13, 2024.” is corrected to read “The exemptions expire on November 13, 2026.”

Issued under authority delegated in 49 CFR 1.87.

Larry W. Minor,
Associate Administrator for Policy.

[FR Doc. 2024-28691 Filed 12-5-24; 8:45 am]

BILLING CODE 4910-EX-P